NUCLEAR REGULATORY COMMISSION

[NRC-2012-0068]

Japan Lessons-Learned Project Directorate Interim Staff Guidance JLD-ISG-2012-01; Compliance With Order EA-12-049, Order Modifying Licenses With Regard to Requirements for Mitigation Strategies for Beyond-Design-Basis External Events

AGENCY: Nuclear Regulatory Commission (NRC).

ACTION: Japan Lessons-Learned Project Directorate interim staff guidance; issuance.

SUMMARY: The U.S. Nuclear Regulatory Commission (NRC or the Commission) is issuing the Final Japan Lessons-Learned Project Directorate Interim Staff Guidance (JLD-ISG), JLD-ISG-2012-01, “Compliance with Order EA-12-049, Order Modifying Licenses with Regard to Requirements for Mitigation Strategies for Beyond-Design-Basis External Events,” Agencywide Documents Access and Management System (ADAMS) Accession No. ML12229A174. This JLD-ISG provides guidance and clarification to assist nuclear power reactor applicants and licensees with the identification of measures needed to comply with requirements to mitigate challenges to key safety functions. These requirements are contained in Order EA-12-049, “Order Modifying Licenses with Regard to Requirements for Mitigation Strategies for Beyond-Design-Basis External Events,” (ADAMS Accession No. ML12054A736).

ADDRESSES: You may access information and comment submissions related to this document, which the NRC possesses and are publically available, by searching on http://www.regulations.gov under Docket ID NRC-2012-0068.

• Federal Rulemaking Web site: Go to http://www.regulations.gov and search for Docket ID NRC-2012-0068. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The JLD-ISG-2012-01 is available under ADAMS Accession No. ML12229A174.

• NRC's PDR: You may examine and purchase copies of public documents at the NRC's PDR, Room O1-F21, One White Flint North, 11555 Rockville Pike, Rockville, MD 20852 NRC's Interim Staff Guidance Web Site: Go to http://www.nrc.gov/reading-rm/doc-collections/isg/japan-lessons-learned.html and refer to JLD-ISG-2012-01.

FOR FURTHER INFORMATION CONTACT: Mr. Steven D. Bloom, Japan Lessons-Learned Project Directorate, Office of Nuclear Reactor Regulation, U.S. Nuclear Regulatory Commission, Washington, DC 20555-0001; telephone: 301-415-2431; email: Steven.Bloom@nrc.gov.

SUPPLEMENTARY INFORMATION:

II. Background Information

Interim staff guidance (ISG), Final Japan Lessons-Learned Project Directorate Interim Staff Guidance (JLD-ISG), JLD-ISG-2012-01, “Compliance with Order EA-12-049, Order Modifying Licenses with Regard to Requirements for Mitigation Strategies for Beyond-Design-Basis External Events,” (ADAMS Accession No. ML12229A174) is being issued to describe to the public methods acceptable to the Nuclear Regulatory Commission (NRC) staff for complying with Order EA-12-049, “Order Modifying Licenses with Regard to Requirements for Mitigation Strategies for Beyond-Design-Basis External Events (Effective Immediately)” (Order EA-12-049), issued March 12, 2012. This ISG endorses the methodologies described in the industry guidance document, Nuclear Energy Institute (NEI) 12-06, Diverse and Flexible Coping Strategies (FLEX) Implementation Guide (NEI 12-06), Revision 0 (ADAMS Accession No. ML12242A378) submitted on August 21, 2012. The ISG is not a substitute for the requirements in Order EA-12-049, and compliance with this ISG is not required.

The NRC issued Order EA-12-049 following the NRC staff's evaluation of the earthquake and tsunami, and resulting nuclear accident, at the Fukushima Dai-ichi nuclear power plant in March 2011. Order EA-12-049 requires all licensees and construction permit (CP) holders to develop a three-phase approach for mitigating beyond-design-basis external events. The initial phase requires the use of installed equipment and resources to maintain or restore core cooling, containment, and SFP cooling. The transition phase requires providing sufficient, portable, onsite equipment and consumables to maintain or restore these functions until they can be accomplished with resources brought from off site. The final phase requires obtaining sufficient offsite resources to sustain those functions indefinitely. Order EA-12-049 also specified that the NRC staff would issue final interim staff guidance in August 2012 to provide additional details on an acceptable approach for complying with Order EA-12-049.

Numerous public meetings were held to solicit stakeholder input on the proposed requirement for mitigation strategies prior to issuance of Order EA-12-049. Following issuance of Order EA-12-049, several more public meetings were held with representatives from the NEI task force and public stakeholders to discuss development of the guidance for compliance with Order EA-12-049. On June 7, 2012 (77 FR 33779), the NRC requested public comments on draft JLD-ISG-12-01. The staff received comments from eight stakeholders which were considered in the development of the final JLD-ISG-12-01. The questions, comments and staff resolutions of those comments are contained in “JLD-ISG-2012-01, Comment Resolution Rev.1” which can be found in ADAMS as Accession No. ML12229A253.

Backfitting and Issue Finality

This ISG does not constitute backfitting as defined in 10 CFR 50.109 (the Backfit Rule) and is not otherwise inconsistent with the issue finality provisions in Part 52, “Licenses, Certifications, and Approvals for Nuclear Power Plants,” of 10 CFR. This ISG provides guidance on an acceptable method for implementing the requirements contained in Order EA-12-049, which was issued as ensuring adequate protection under the provisions of the backfit rule. Applicants and licensees may voluntarily use the guidance in JLD-ISG-2012-01 to demonstrate compliance with Order EA-12-049. Methods or solutions that differ from those described in this ISG may be deemed acceptable if they provide sufficient basis and information for the NRC staff to verify that the proposed alternative demonstrates compliance with Order EA-12-049.

Congressional Review Act

This interim staff guidance is a rule as designated in the Congressional Review Act (5 U.S.C. 801-808). OMB has found that this is a major rule in accordance with the Congressional Review Act.

Dated at Rockville, Maryland, this 29th day of August 2012.
For the Nuclear Regulatory Commission.
John D. Monninger,
Associate Director, Japan Lessons-Learned Project Directorate, Office of Nuclear Reactor Regulation.

[FR Doc. 2012-22066 Filed 9-6-12; 8:45 am]

BILLING CODE 7590-01-P